DEPARTMENT OF HOUSING AND URBAN DEVELOPMENT

[Docket No. FR-4912-N-18]

Notice of Availability of a Final Environmental Impact Statement for the Ashburton Avenue Urban Renewal Plan and Master Plan, Yonkers, Westchester County, NY

AGENCY: Office of the Assistant Secretary for Community Planning and Development, HUD.

ACTION: Notice.

SUMMARY: HUD gives notice to the public, agencies, and Indian tribes of the availability of the Final Environmental Impact Statement (EIS) for review and comment for: The Ashburton Avenue Urban Renewal Plan and Ashburton Avenue Master Plan and the Mulford Gardens HOPE VI Revitalization Plan in the City of Yonkers, Westchester County, NY. The Final EIS was prepared by the City of Yonkers, NY, acting under its authority as the Responsible Entity for compliance with the National Environmental Policy Act of 1969 (NEPA) in accordance with 24 CFR 58.4. The Final EIS has been prepared to satisfy the requirements of both NEPA and the New York State Environmental Quality Review Act of 1978 (SEQR), as amended (6 NYCRR part 617). The EIS and NEPA process also address historic preservation and cultural resource issues under section 106 of the National Historic Preservation Act (16 U.S.C. 470f). This notice is given in accordance with the Council on Environmental Quality regulations at 40 CFR parts 1500-1508.

The Final EIS assesses the potential environmental impacts associated with the implementation of the following alternatives: (1) The Master Plan, Urban Renewal Plan and Mulford Gardens HOPE VI Revitalization Plan, (2) the Ashburton Avenue Master Plan improvements without a continuous street widening, (3) a reduced/modified scale of the Mulford Gardens HOPE VI Revitalization Plan, and (4) a no action alternative.

DATES: Written comments on the Final EIS will be accepted for a period of 30 days after publication of the notice of availability in the Federal Register. A Record of Decision will be made at the end of the 30-day period. Written comments may be sent by mail or facsimile to Lee Ellman, Planning Director, City of Yonkers, 87 Nepperhan Avenue, Suite 311, Yonkers NY 10701-3874, telephone (914) 377-6558, Web site: lee.ellman@cityofyonkers.com.

FOR FURTHER INFORMATION CONTACT: To obtain copies of the Final EIS or for more information, contact Lee Ellman, Department of Planning and Development, 87 Nepperhan Avenue, Suite 311, Yonkers, NY 10701-3874, telephone (914) 377-6558; e-mail lee.ellman@cityofyonkers.com. Copies of the Final EIS are available for review at the Yonkers Riverfront Library, 1 Larkin Center, Yonkers, NY 10701 or online at http://www.cityofyonkers.com.

SUPPLEMENTARY INFORMATION: The City of Yonkers has determined that the Proposed Action constitutes an action which has the potential to affect the quality of the human environment in terms of socioeconomics, housing, and improvements to the existing transportation system. Therefore the City, as Lead Agency, has prepared an EIS to examine the potential impacts of implementing the components of the Master Plan and Urban Renewal Plan. Since it is anticipated that transportation improvements and new residential construction will be at least in part funded with federal monies, the City has prepared the EIS in accordance with NEPA. The Notice of the Availability of the Draft EIS was published in the Federal Register on September 28, 2005 (70 FR 56734).

The analysis of the Ashburton Avenue Master Plan and Urban Renewal Plan consists of a generic discussion of the potential impacts resulting from the adoption of the two plans. The analysis of the Mulford Gardens HOPE VI Revitalization Plan, which is geographically contained within the Master Plan and Urban Renewal Area, is a site-specific analysis. Due to the interrelatedness and timing of these two actions, both the generic and site-specific analyses are contained in the same Final EIS.

The Urban Renewal Area (URA) is located on the west side of Yonkers, north of the downtown and west of the Saw Mill River Parkway. The 114-acre area encompasses approximately 600 parcels along and near Ashburton Avenue, between Warburton Avenue and Yonkers Avenue. The area was selected by the City as a potential URA to tie into the redevelopment of Mulford Gardens, the City's oldest public housing complex, which is located on 12 acres within the boundaries of the proposed URA. Due to its age and substandard housing condition, Mulford Gardens is slated for demolition. The City's Municipal Housing Authority was awarded a HOPE VI grant to demolish and reconstruct housing on and around the existing Mulford Gardens site. Proposed HOPE VI residential development will occur on the existing 12-acre Mulford Gardens site, with additional residential, community facility, and retail development to occur on eight surrounding sites within the Ashburton Avenue URA.

The Urban Renewal Plan will be used as a revitalization strategy to improve the residential character of the area, expand business opportunities and improve the transportation network. The Master Plan for the URA will include: The provision of a range of housing opportunities; mixed use development along Ashburton Avenue; and transportation improvements, including street widenings along Ashburton Avenue to improve east-west access between the Saw Mill River Parkway and the Downtown Waterfront District, allow on-street parking, reduce traffic congestion, and allow for an upgraded sidewalk and streetscape plan.

Discussion of Mitigation Measures

Environmental effects analyzed in the Draft EIS include socioeconomics; vehicular traffic, roadways and parking; cultural resources; soils and topography; water resources and wetlands; community services; terrestrial ecology; air quality and noise; hazardous materials; environmental justice; growth inducement; and cumulative impacts. Public comments received on the Draft EIS primarily focused on issues relating to socioeconomics and environmental justice and clarification of the proposed action.

None of the analyzed categories are expected to have significant adverse long-term environmental impacts. The following categories would have impacts that can be fully mitigated by the implementation of mitigation measures: Socioeconomics, traffic, air quality, noise, hazardous materials, and environmental justice. Specific mitigation measures in addition to the overall physical and economic revitalization of the area will include: A Relocation Plan for 9 businesses and 580-591 residences in accordance with the 1970 Uniform Relocation Assistance and Real Property Acquisition Policies Act; signal timing adjustments and the widening of Ashburton Avenue to improve vehicular circulation, streetscape and parking; construction management plan to minimize short-term air and noise impacts; Phase 1 and Phase 2 Assessments as necessary in accordance with American Society for Testing and Materials (ASTM E-1527-00 and ASTM E-1903-97).

Questions may be directed to the individual named above under the heading FOR FURTHER INFORMATION CONTACT.

Dated: February 22, 2006.
Nelson R. Bregon,
General Deputy Assistant Secretary for Community Planning and Development.

[FR Doc. E6-2904 Filed 3-1-06; 8:45 am]

BILLING CODE 4210-67-P